DEPARTMENT OF THE INTERIOR

Fish and Wildlife Service

[FWS-R3-ES-2018-N003; FXES11130300000-189-FF03E00000]

Endangered and Threatened Wildlife and Plants; Initiation of 5-Year Status Reviews of Five Listed Animal Species

AGENCY: Fish and Wildlife Service, Interior.

ACTION: Notice of initiation of reviews; request for information.

SUMMARY: We, the U.S. Fish and Wildlife Service, are initiating 5-year status reviews under the Endangered Species Act of 1973, as amended, for five animal species. A 5-year status review is based on the best scientific and commercial data available at the time of the review; therefore, we are requesting submission of any such information that has become available since the last review for the species.

DATES: To ensure consideration, please send your written information by June 25, 2018. However, we will continue to accept new information about any listed species at any time.

ADDRESSES: For instructions on how to submit information for each species, see the table in the SUPPLEMENTARY INFORMATION section.

FOR FURTHER INFORMATION CONTACT: To request information, contact the appropriate person in the table in the SUPPLEMENTARY INFORMATION section. Individuals who are hearing impaired or speech impaired may call the Federal Relay Service at 800-877-8339 for TTY assistance.

SUPPLEMENTARY INFORMATION: We are initiating 5-year status reviews under the Endangered Species Act of 1973, as amended (16 U.S.C. 1531 et seq.; ESA), for the Dakota skipper (Hesperia dacotae), Higgin's eye pearlymussel (Lampsilis higginsii), Hine's emerald dragonfly (Somatochlora hineana), Niangua darter (Etheostoma nianguae), and Poweshiek skipperling (Oarisma poweshiek).

Why do we conduct 5-year reviews?

Under the ESA (16 U.S.C. 1531 et seq.), we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

What information do we consider in our review?

A 5-year review considers the best scientific and commercial data that have become available since the current listing determination or most recent status review of each species, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the ESA); and

(E) Other new information, data, or corrections, including but not limited to taxonomic or nomenclatural changes, identification of erroneous information contained in the List, and improved analytical methods.

New information will be considered in the 5-year review and ongoing recovery programs for the species.

What species are under review?

This notice announces our active 5-year status reviews of the species in the following table.

Animals
Common name | Scientific name | Taxonomic group | Listing status | Where listed | Final listing rule (Federal Register citation and publication date) | Contact person, email, phone | Contact person's U.S. mail address
Dakota skipper | Hesperia dacotae | Butterfly | T | IA, IL, MN, ND, SD | 80 FR 59248; October 1, 2015 | Andrew Horton;Andrew_Horton@fws.gov; 952-252-0092 | USFWS, 4101 American Boulevard East, Bloomington, MN 55425.
Higgins' eye pearlymussel | Lampsilis higginsii | Mussel | E | IL, MN, MO, WI | 41 FR 21062; June 14, 1976 | Tamara Smith;Tamara_Smith@fws.gov; 952-252-0092 | USFWS, 4101 American Boulevard East, Bloomington, MN 55425.
Hine's emerald dragonfly | Somatochlora hineana | Insect | E | IL, IN, OH, WI | 60 FR 5267, January 26, 1995 | Kristopher Lah; Kristopher_Lah@fws.gov; 312-216-4720 | USFWS, 230 South Dearborn, Suite 2398, Chicago, IL 60604.
Niangua darter | Etheostoma nianguae | Fish | T | MO | 50 FR 24649; June 12, 1985 | Bryan Simmons; Bryan_Simmons@fws.gov; 417-836-5302 | USFWS, 101 Park DeVille Drive, Suite A, Columbia, MO 65203.
Poweshiek skipperling | Oarisma poweshiek | Butterfly | E | IA, IL, IN, MI, MN, ND, SD, WI | 80 FR 59248; October 1, 2015 | Nick Utrup; Nick_Utrup@fws.gov; 952-252-0092 | USFWS, 4101 American Boulevard East, Bloomington, MN 55425.

Request for Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Submissions

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Authority

We publish this notice under the authority of the Endangered Species Act of 1973, as amended (16 U.S.C. 1531 et seq.).

Dated: February 12, 2018.
Lori H. Nordstrom,
Assistant Regional Director, Ecological Services, Midwest Region.

[FR Doc. 2018-08630 Filed 4-24-18; 8:45 am]

BILLING CODE 4333-15-P